DEPARTMENT OF ENERGY

Federal Energy Regulatory Commission

Combined Notice of Filings #1

Take notice that the Commission received the following electric corporate filings:

Docket Numbers: EC17-142-000.

Applicants: Exelon Generation Company, LLC, Exelon FitzPatrick, LLC.

Description: Joint Application for Authorization Under Section 203 of the FPA of Exelon Generation Company, LLC, et. al.

Filed Date: 7/28/17.

Accession Number: 20170728-5234.

Comments Due: 5 p.m. ET 8/18/17.

Take notice that the Commission received the following exempt wholesale generator filings:

Docket Numbers: EG17-131-000.

Applicants: Cap Ridge Wind I, LLC.

Description: Notice of Self-Certification of Exempt Wholesale Generator Status of Cap Ridge Wind I, LLC.

Filed Date: 7/28/17.

Accession Number: 20170728-5243.

Comments Due: 5 p.m. ET 8/18/17.

Docket Numbers: EG17-132-000.

Applicants: Cap Ridge Wind II, LLC.

Description: Notice of Self-Certification of Exempt Wholesale Generator Status of Cap Ridge Wind II, LLC.

Filed Date: 7/28/17.

Accession Number: 20170728-5245.

Comments Due: 5 p.m. ET 8/18/17.

Docket Numbers: EG17-133-000.

Applicants: Cap Ridge Wind III, LLC.

Description: Notice of Self-Certification of Exempt Wholesale Generator Status of Cap Ridge Wind III, LLC.

Filed Date: 7/28/17.

Accession Number: 20170728-5246.

Comments Due: 5 p.m. ET 8/18/17.

Docket Numbers: EG17-134-000.

Applicants: Cap Ridge Wind IV, LLC.

Description: Notice of Self-Certification of Exempt Wholesale Generator Status of Cap Ridge Wind IV, LLC.

Filed Date: 7/28/17.

Accession Number: 20170728-5248.

Comments Due: 5 p.m. ET 8/18/17.

Docket Numbers: EG17-135-000.

Applicants: Cap Ridge Interconnection, LLC.

Description: Notice of Self-Certification of Exempt Wholesale Generator Status of Cap Ridge Interconnection, LLC.

Filed Date: 7/28/17.

Accession Number: 20170728-5249.

Comments Due: 5 p.m. ET 8/18/17.

Take notice that the Commission received the following electric rate filings:

Docket Numbers: ER10-2794-023; ER14-2672-008; ER12-1825-021.

Applicants: EDF Trading North America, LLC, EDF Energy Services, LLC, EDF Industrial Power Services (CA), LLC.

Description: Notice of Non-Material Change in Status of EDF Trading North America, LLC, et al.

Filed Date: 7/28/17.

Accession Number: 20170728-5233.

Comments Due: 5 p.m. ET 8/18/17.

Docket Numbers: ER17-2179-000.

Applicants: California Independent System Operator Corporation.

Description: § 205(d) Rate Filing: 2017-07-28 Remove Conceptual Statewide Plan Amendment to be effective 9/27/2017.

Filed Date: 7/28/17.

Accession Number: 20170728-5211.

Comments Due: 5 p.m. ET 8/18/17.

Docket Numbers: ER17-2180-000.

Applicants: Southwest Power Pool, Inc.

Description: § 205(d) Rate Filing: Attachment AE Revisions Regarding Staggered Start Resources to be effective 10/1/2017.

Filed Date: 7/28/17.

Accession Number: 20170728-5222.

Comments Due: 5 p.m. ET 8/18/17.

Docket Numbers: ER17-2181-000.

Applicants: Pacific Gas and Electric Company.

Description: § 205(d) Rate Filing: Q2 2017 Quarterly Filing of City and County of San Francisco's WDT SA (SA 275) to be effective 6/30/2017.

Filed Date: 7/31/17.

Accession Number: 20170731-5000.

Comments Due: 5 p.m. ET 8/21/17.

Docket Numbers: ER17-2182-000.

Applicants: Coyote Canyon Energy LLC.

Description: Tariff Cancellation: Coyote Canyon Energy MBR Tariff Cancellation to be effective 9/30/2017.

Filed Date: 7/31/17.

Accession Number: 20170731-5020.

Comments Due: 5 p.m. ET 8/21/17.

Docket Numbers: ER17-2183-000.

Applicants: Duke Energy Progress, LLC

Description: Tariff Cancellation: Cancellation of CCCP IA (OATT SA 206) to be effective 8/1/2017.

Filed Date: 7/31/17.

Accession Number: 20170731-5035.

Comments Due: 5 p.m. ET 8/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2017.
Nathaniel J. Davis, Sr.,
Deputy Secretary.

[FR Doc. 2017-16457 Filed 8-3-17; 8:45 am]

BILLING CODE 6717-01-P